DEPARTMENT OF STATE

[Public Notice: 6958]

Bureau of Educational and Cultural Affairs (ECA) Request for Grant Proposals: TechWomen

Announcement Type: Cooperative Agreement.

Funding Opportunity Number: ECA/PE/C-10-55.

Catalog of Federal Domestic Assistance Number: 19.415

Dates: Key Dates:

Application Deadline: June 2, 2010.

Executive Summary: The Office of Citizen Exchanges of the Bureau of Educational and Cultural Affairs announces an open competition for “TechWomen”. Public and private non-profit organizations meeting the provisions described in Internal Revenue Code section 26 U.S.C. 501(c)(3) may submit proposals to conduct a professional mentorship exchange program. This initiative champions two distinct but key themes of President Obama's June 2009 speech in Cairo by supporting development in the field of technology and enabling women to reach their full potential in the technology industry. Applicants should plan to recruit and select a total of approximately 20-40 women from Algeria, Egypt, Jordan, Lebanon, Morocco, the West Bank and Gaza to participate in a four- to six-week peer mentoring program in the United States. The mentoring experience will focus on bolstering the status of professional women in the field of technology, will provide networking opportunities for the participants, and will support activities in the participants' home countries that encourage the interest of girls in technology-based careers.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * *and thus to assist in the development of friendly, sympathetic and peaceful relations between the United States and the other countries of the world.” The funding authority for the program above is provided through legislation.

Purpose

The project “TechWomen” will link approximately 20-40 emerging female leaders from Algeria, Egypt, Jordan, Lebanon, Morocco, the West Bank and Gaza, who have at least two years of professional experience in the field of technology, with female peer mentors in the United States for a four- to six-week mentorship program. A smaller number of select American experts will then travel to the foreign participants' home region to offer skills development sessions and workshops for a broader range of local participants. The program is designed to reach beyond the exchange by serving as the basis for an international professional support network for women working in the field of technology both within and outside of each participant's home country. Participants will also have access to the community of alumni from previous State Department sponsored exchange programs.

Applicants must identify the U.S. and foreign organizations and individuals with whom they are proposing to collaborate both to secure mentorships in the United States, to recruit and select participants overseas, and to implement follow-on workshops conducted by American experts in certain of the participants' home countries. Proposals should contain letters of commitment or support from partner organizations for the proposed mentorships, and for the follow-on workshops overseas. A description of any previous cooperative activities with these partner organizations must be included in the proposal, along with information about their mission, activities, and accomplishments. Applicants should clearly outline and describe the roles and responsibilities of all partner organizations in terms of project logistics, management and oversight.

Competitive proposals will include the following:

• A proposed timeline detailing potential activities and project goals;

• A description of the recruitment and selection processes of participants from Algeria, Egypt, Jordan, Lebanon, Morocco, the West Bank and Gaza;

• A description of U.S.-based activities, including the securing of mentorships and mentors in American companies; monitoring and support of participants during the mentorship; a group orientation; and a debriefing/evaluation session at the conclusion of the program;

• A description of the workshops, seminars and/or other activities conducted by the American experts overseas;

• Letters of commitment from U.S. partners to serve as possible host mentoring sites;

• A description of the applicant organization's relevant expertise in the project area and working with participants or organizations from eligible countries;

• A description of relevant experience managing previous exchange and/or mentoring programs;

• Resumes of experienced staff who have demonstrated a commitment to implement and monitor projects and ensure outcomes;

• A comprehensive plan to evaluate whether program outcomes will achieve the specific objectives described in the narrative;

• A post-grant plan that demonstrates how the participants can maintain contacts initiated during the program. Applicants should discuss ways that U.S. and foreign participants will collaborate and communicate after the ECA-funded grant has concluded.

U.S. Embassy Involvement: Award recipients must acknowledge U.S. Embassy involvement in the final selection of all participants. Before submitting a proposal, all applicants are strongly encouraged to consult with the Bureau of Educational and Cultural Affairs Washington, DC-based State Department contact, Sheila Casey; (202) 632-6070 (tel); (202) 632-9355 (fax); e-mail: caseysd@state.gov.

Project Details

Audience

Participants will be women (aged 25-42) from Algeria, Egypt, Jordan, Lebanon, Morocco, the West Bank and Gaza who are engaged or rising in professional careers that require significant expertise/knowledge of technology and/or innovative application of these skills, and who already are, or show promise of being, role models for others in their countries, particularly for women. “Technology” should be interpreted broadly to include—but not be limited to—the fields of science, education, and business. Participants must have at least two years of previous work experience in a field that explicitly and directly involves and applies technology in meeting professional goals. All participants must be proficient in English.

Each participant should be matched with one female U.S. mentor who is a mid-level professional. Also, each participant should have a personal mentor as well to help ease her adjustment to American culture and life.

A successful program will:

• Provide foreign participants from eligible countries the opportunity for professional development through project-based mentorships with American peers for up to 6 weeks, and through activities conducted in select countries overseas after the conclusion of the U.S.-based program.

• Promote mutual understanding and partnerships between key professional groups in the United States and counterpart groups in eligible countries.

• Create sustainable professional mentoring relationships between U.S. and foreign participants.

• Expand the network of technology professionals in eligible countries.

Ideal Program Model

• A four- to six-week U.S.-based program that includes a group orientation at the beginning of the program; a mentorship with a peer mentor; a debrief/evaluation session at the conclusion of the U.S.-based mentorship; and additional educational and cultural programming, as appropriate. Participants should be placed in small groups in one or multiple tech hub areas to provide them with a social and support network. Placing participants in the Silicon Valley region of California and/or other centers of technology in the United States is strongly encouraged. Based on the participant's interests and goals, the award recipient will design each mentorship around a specific project or effort within a company that is clearly relevant to the participant's professional goals.

• Robust engagement with the private sector to expand networking opportunities and secure mentorship hosts in small-, medium- and large-size companies.

• A four- to seven-day project in one-two of the participants' home countries for select U.S. experts in technology (either the participants' mentors themselves, or other women that have been in close contact with the mentees in the United States) to conduct/participate in seminars, workshops, on-site consultancies, and other types of activities with the goal of reinforcing the mentorship experience and creating a wider network of women who are established in these professions, or who aspire to do so. During this overseas project, the award recipient should also arrange one-two workshops for at least 25 girls (within the age range of 11-15) each to expose them to role models and insight into what it means to be a female leader in a technological field. At the end of the overseas project, there should be a one-day debriefing and evaluation session with the participants.

• A follow-on plan to establish regular communication between the participants themselves, as well as with those who were engaged during the programming during the overseas project.

Successful applicants must demonstrate a capacity to achieve the following:

• Recruit and select 20-40 qualified individuals from Algeria, Egypt, Jordan, Lebanon, Morocco, the West Bank and Gaza. The program should be designed for participants to travel to the United States at the same time, in order to participate in a group orientation upon arrival, even if they will subsequently be engaged in smaller, more customized programs. The award recipient will be responsible for making all international and domestic travel arrangements.

• Identify U.S.-based organizations and individuals with whom collaboration on mentorships and networking opportunities is possible, and describe previous cooperative activities, if any.

• Identify qualified and established partner organizations/offices overseas where participants are being recruited in consultation with ECA and the relevant U.S. Embassies and Consulates.

• Implement meaningful and effective four- to six-week professional mentoring experiences in the United States. The final selection of foreign participants should take into account the types of mentorship placements that may be available in the United States.

• Three-six months after the conclusion of the mentorships in the United States, design and make all logistical arrangements to implement a four- to seven-day seminar, workshop, on-site consultancy or other activity conducted by U.S. experts in one-two of the participants' home countries that includes one-two age-appropriate workshops for girls (within the age range of 11-15), and a one-day debriefing and evaluation session with the participants at the conclusion of the overseas activities. The award recipient will be responsible for making all international and domestic travel arrangements.

• Propose specific ideas and approaches to maintaining contact and networking opportunities between the participants themselves, and between them and their U.S. mentors and host institutions/organizations.

• In collaboration with ECA and the respective U.S. Embassies, design and arrange for the publication (both in print and online) of program materials for TechWomen. Relevant materials include those to advertise and promote the program (both in the United States and overseas), orientation materials, mentoring guidelines, and materials for activities conducted in the participants' home countries. Materials and Web site designs must be approved by ECA prior to publication and/or distribution; please allow a minimum of three weeks for this review process. Printed materials and Web sites must prominently display the TechWomen program logo (designed by the award recipient in consultation with and subject to the approval of ECA) and U.S. Department of State seal. All official documents and materials developed for promotional purposes must use the TechWomen logo and acknowledge the U.S. Department of State's role as program sponsor. Please note: All materials and Web site resources paid for by grant funds will become the property of the Department of State.

ECA envisions the approximate dates of TechWomen to be as follows:

• September 2010-January 2011: Recruitment and selection of foreign participants. Recruitment campaign for U.S. hosting institutions.

• February 2011-April 2011: Securing U.S.-based mentors and host sites.

• May 2011-August 2011: Travel to the United States by foreign participants to the United States for orientation and placement at mentorship sites for a four- to six-week program.

• November 2011-February 2012: U.S. experts travel to select countries overseas to conduct seminars, workshops and/or other activities.

Additional Information

All projects proposed for the mentorship should encourage both the American mentors and the foreign participants to come together, learn from each other and to build relationships.

The Department has initiated outreach to women in technology in the Middle East through previous contract and conferences; once a cooperative agreement has been awarded under this competition, the organizers of previous projects may be consulted for additional contacts and information.

Based on existing relations, the Department will work with the award recipient to finalize potential companies where the participants are placed; however, only applicants who can demonstrate a strong private sector network through their own resources will be deemed competitive.

In a cooperative agreement, ECA is substantially involved in program activities above and beyond routine monitoring. ECA's activities and responsibilities for this program are as follows:

• Collaborating with the award recipient on the outreach and selection of mentors and host sites.

• Approval of host institutions and organizations;

• Review and approval of all program publicity and other materials;

• Final selection of participants;

• Assistance with SEVIS-related issues;

• Assistance with participant emergencies;

• Liaison with relevant U.S. Embassies and country desk officers at the Department of State, particularly in terms of recruitment and selection efforts.

• Issuance of DS-2019 forms to participants.

• Enrolling participants in the Accident and Sickness Program for Exchanges (ASPE) for the duration of the program, issue health benefits identification cards, and provide instructions on host claim forms;

• Working with the award recipient to publicize the program through various media outlets; and

• Monitoring and evaluating the program as necessary, through site visits or debriefing sessions.

II. Award Information

Type of Award: Cooperative Agreement.

Fiscal Year Funds: FY 2010.

Approximate Total Funding: $1,000,000.

Approximate Number of Awards: 1-2.

Floor of Award Range: $500,000.

Ceiling of Award Range: $1,000,000.

Anticipated Award Date: September 1, 2010.

Anticipated Project Completion Date: June 30, 2012.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

a. Bureau grant guidelines require that organizations with less than four years experience in conducting international exchanges be limited to $60,000 in Bureau funding. ECA anticipates making up to two awards for approximately $1,000,000 to support program and administrative costs required to implement this exchange program. Therefore, organizations with less than four years experience in conducting international exchanges are ineligible to apply under this competition as the primary award recipient. Organizations and institutions that are interested in being part of the administration of TechWomen, but that have less than the required four years experience, are encouraged to explore the possibility of being a sub-grantee in a consortium lead by another entity that is the primary award recipient. Applicants may choose to apply for a minimum award of $500,000, or up to a maximum award of $1,000,000. The Bureau encourages applicants to provide maximum levels of cost sharing and funding in support of its programs.

b. Technical Eligibility: Eligible applicants may not submit more than one proposal in this competition. If more than one proposal is received from the same applicant, all submissions will be declared technically ineligible and will receive no further consideration in the review process. Please note: Applicant organizations are defined by their legal name, and EIN number as stated on their completed SF-424 and additional supporting documentation outlined in the Proposal Submission Instructions (PSI) document.

IV. Application and Submission Information:

Note: Please read the complete announcement before sending inquiries or submitting proposals. Once the RFGP deadline has passed, Bureau staff may not discuss this competition with applicants until the proposal review process has been completed.

IV.1 Contact Information to Request an Application Package: Please contact Veronica Rector in the Office of Citizen Exchanges, ECA/PE/C, SA-5, 3rd Floor, U.S. Department of State, 2200 C Street, NW., Washington, DC 20522-0504, (202) 632-6081 (tel); (202) 632-9355 (fax); rectorva@state.gov to request a Solicitation Package. Please refer to the Funding Opportunity Number ECA/PE/C-10-55 located at the top of this announcement when making your request. Alternatively, an electronic application package may be obtained from grants.gov. Please see section IV.3f for further information.

The Solicitation Package contains the Proposal Submission Instruction (PSI) document which consists of required application forms, and standard guidelines for proposal preparation.

Please specify Sheila Casey and refer to the Funding Opportunity Number ECA/PE/C-10-55 located at the top of this announcement on all other inquiries and correspondence.

IV.2. To Download a Solicitation Package Via Internet: The entire Solicitation Package may be downloaded from the Bureau's Web site at http://exchanges.state.gov/grants/open2.html, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving awards (either a grant or cooperative agreement) under this RFGP will be third parties “cooperating with or assisting the sponsor in the conduct of the sponsor's program.” The actions of recipient organizations shall be “imputed to the sponsor in evaluating the sponsor's compliance with” 22 CFR part 62. Therefore, the Bureau expects that any organization receiving an award under this competition will render all assistance necessary to enable the Bureau to fully comply with 22 CFR part 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: Office of Designation, ECA/EC/D, SA-5, Floor C2, Department of State, Washington, DC 20522-0582.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing your budget:

IV.3e.1. Applicants must submit SF-424A—“Budget Information—Non-Construction Programs” along with a comprehensive budget for the entire program. Budget requests may not exceed $1,000,000. There must be a summary budget as well as breakdowns reflecting both administrative and program budgets. Applicants may provide separate sub-budgets for each program component, phase, location, or activity to provide clarification.

IV.3e.2. Allowable costs for the program include the following:

• International and domestic air fares; visas; transit costs; ground transportation costs and airline baggage and seat fees. Please note that all air travel must be in compliance with the Fly America Act. There is no charge for J-1 visas for participants in Bureau sponsored programs.

• Per Diem. For U.S.-based programming, organizations should refer to the published Federal per diem rates for individual U.S. cities. Domestic per diem rates may be accessed at: http://www.gsa.gov/Portal/gsa/ep/contentView.do?contentType=GSA_BASIC&contentId=17943.

ECA requests applicants to budget realistic costs that reflect the local economy and do not exceed Federal per diem rates. Foreign per diem rates for overseas activities can be accessed at: http://aoprals.state.gov/content.asp?content_id=184&menu_id=78.

• Return Travel Allowance. A return travel allowance of $70 for each foreign participant may be included in the budget. The allowance may be used for incidental expenses incurred during international travel.

• Health Insurance. Foreign participants will be covered under the terms of a U.S. Department of State-sponsored health insurance policy. The premium is paid by the U.S. Department of State directly to the insurance company. Applicants are permitted to include costs for travel insurance for U.S. participants in the budget.

• Consultants. Consultants may be used to provide specialized expertise or to make presentations. Daily honoraria may not exceed $250 per day. Subcontracting organizations may also be used, in which case the written agreement between the prospective grantee and subcontractor should be included in the proposal. Subcontracts should be itemized in the budget.

• Room Rental. Room rental may not exceed $250 per day.

• Materials Development. Your proposal may contain costs to purchase, develop and translate materials for participants.

• Wire transfer fees. When necessary, applicants may include costs to transfer funds to partner organizations overseas. Award recipients are urged to research applicable taxes that may be imposed on these transfers by host governments.

• In-country travel costs for visa processing purposes. Given the requirements associated with obtaining J-1 visas for ECA-supported participants, applicants should include costs for any travel associated with visa interviews or DS-2019 pick-up.

• Administrative Costs. Costs necessary for the effective administration of the program may include salaries for recipient organization employees, benefits, and other direct and indirect costs per detailed instructions in the Application Package. While there is no rigid ratio of administrative to program costs, proposals in which the administrative costs do not exceed 25% of the total requested ECA grant funds will be more competitive under the cost effectiveness and cost sharing criterion, per item V.1 below. Proposals should show strong administrative cost sharing contributions from the applicant, the in-country partner and other sources. Please also include in the administrative portion of your budget plans to travel to Washington, DC, to meet with your program officer within the first 45 days after the grant has been awarded.

Please refer to the PSI for complete budget guidelines and formatting instructions.

IV.3f. Application Deadline and Methods of Submission

Application Deadline Date: June 2, 2010.

Reference Number: ECA/PE/C-10-55.

Methods of Submission:

Applications may be submitted in one of two ways:

(1) In hard-copy, via a nationally recognized overnight delivery service (i.e., Federal Express, UPS, Airborne Express, or U.S. Postal Service Express Overnight Mail, etc.), or

(2) electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and seven (7) copies of the application should be sent to: Program Management Division, ECA-IIP/EX/PM, Ref.: ECA/PE/C-10-55, SA-5, Floor 4, Department of State, 2200 C Street, NW., Washington, DC 20522-0504.

Applicants submitting hard-copy applications must also submit the “Executive Summary” and “Proposal Narrative” sections of the proposal in text (.txt) or Microsoft Word format on CD-ROM. As appropriate, the Bureau will provide these files electronically to Public Affairs Section(s) at the U.S. embassy(ies) for its (their) review.

IV.3f.2 Submitting Electronic Applications

Applicants have the option of submitting proposals electronically through Grants.gov (http://www.grants.gov). Complete solicitation packages are available at Grants.gov in the “Find” portion of the system.

Please note: ECA bears no responsibility for applicant timeliness of submission or data errors resulting from transmission or conversion processes for proposals submitted via Grants.gov.

Please follow the instructions available in the ``Get Started'' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support, Contact Center Phone: 800-518-4726, Business Hours: Monday—Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the Grants.gov system, and will be technically ineligible. Please refer to the Grants.gov Web site, for definitions of various “application statuses” and the difference between a submission receipt and a submission validation.

Applicants will receive a validation e-mail from Grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreement) resides with the Bureau's Grants Officer.

Review Criteria

Technically eligible applications will be competitively reviewed according to the criteria stated below. These criteria are not rank ordered and all carry equal weight in the proposal evaluation:

1. Quality of the Program Idea: Proposals should exhibit originality, substance, precision, and relevance to the Bureau's mission.

2. Program Planning and Ability to Achieve Objectives: Detailed agenda and relevant work plan should demonstrate substantive undertakings and logistical capacity. The agenda and plan should adhere to the program overview and guidelines described above. Objectives should be reasonable, feasible, and flexible. Proposals should clearly demonstrate how the institution will meet the program's objectives and plan.

3. Support of Diversity: Proposals should demonstrate substantive support of the Bureau's policy on diversity. Achievable and relevant features should be cited in both program administration (selection of participants, program venue and program evaluation) and program content (orientation and debriefing sessions, and follow-on activities).

4. Institutional Capacity/Track Record: Proposed personnel and institutional resources should be adequate and appropriate to achieve the program's goals, particularly in securing meaningful and effective mentorships for participants in TechWomen. Proposals should demonstrate an institutional record of successful exchange programs, including responsible fiscal management and full compliance with all reporting requirements for past Bureau awards (grants or cooperative agreements) as determined by Bureau Grants Staff. The Bureau will consider the past performance of prior recipients and the demonstrated potential of new applicants.

5. Program Evaluation: Proposals should include a plan to evaluate the activity's success, both as the activities unfold and at the end of the program. A draft survey questionnaire or other technique plus a description of a methodology to link outcomes to the original program objectives are recommended.

6. Cost-effectiveness/Cost-sharing: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal Bureau procedures. Successful applicants will receive an Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b The following additional requirements apply to this project:

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact (insert program office contact name, telephone and e-mail) for additional information.

VI.2 Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://fa.statebuy.state.gov.

VI.3. Reporting Requirements: You must provide ECA with a hard copy original plus one copy of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports.

(4) Quarterly program and financial reports which should include relevant details on participant recruitment efforts, mentorship hosts, and the status of overseas workshops, seminars, and/or other activities.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

Program Data Requirements:

Award recipients will be required to maintain specific data on program participants and activities in an electronically accessible database format that can be shared with the Bureau as required. As a minimum, the data must include the following:

(1) Name, address, contact information and biographic sketch of all persons who travel internationally on funds provided by the agreement or who benefit from the award funding but do not travel.

(2) Itineraries of international and domestic travel, providing dates of travel and cities in which any exchange experiences take place. Final schedules for in-country and U.S. activities must be received by the ECA Program Officer at least three work days prior to the official opening of the activity.

VII. Agency Contacts

For questions about this announcement, contact: Sheila Casey, U.S. Department of State, Office of Citizen Exchanges, ECA/PE/C, SA-5, 3rd Floor, 2200 C Street, NW., Washington, DC 20522-0503, (202) 632-6070 (tel); (202) 632-9355 (fax); caseysd@state.gov.

All correspondence with the Bureau concerning this RFGP should reference ECA/PE/C-10-55.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 14, 2010.
Maura M. Pally,
Acting Assistant Secretary for Educational and Cultural Affairs, U.S. Department of State.

[FR Doc. 2010-9079 Filed 4-19-10; 8:45 am]

BILLING CODE 4710-05-P